DEPARTMENT OF TRANSPORTATION

Federal Highway Administration

[Docket No. FHWA-2013-0036]

2013 Temporary Closure of I-65 (I-70/I-65 South Split Interchange) in the City of Indianapolis

AGENCY: Federal Highway Administration (FHWA), DOT.

ACTION: Final Notice.

SUMMARY: The FHWA has approved a request from the Indiana Department of Transportation (INDOT) to temporarily close a 2-mile portion of I-65 in Indiana (from I-70/I-65 south split interchange to I-70/I-65 north split interchange) for a period of 93 days, from Wednesday, August 21, to Thursday, November 21, 2013. The closure is requested to accommodate the reconstruction of the Virginia Avenue Bridge, which consists of replacing the northbound and southbound bridge girders and lowering the pavement section from south of Morris Street to north of Fletcher Avenue.

The approval is granted in accordance with the provisions of 23 CFR 658.11 which authorizes the deletion of segments of the federally designated routes that make up the National Network designated in Appendix A of 23 CFR Part 658. The FHWA published a Notice and Request for Comment on July 1, 2013, seeking comments from the general public on this request submitted by the INDOT for a deletion in accordance with 23 CFR 658.11(d). No comments were received.

DATES: Effective Date: This Notice is effective immediately.

FOR FURTHER INFORMATION CONTACT: Ms. Crystal Jones, Office of Freight Management and Operations, Office of Operations, (202) 366-2976, Mr. Bill Winne, Office of the Chief Counsel, (202) 366-0791, Federal Highway Administration, 1200 New Jersey Avenue SE., Washington, DC 20590, and Mr. Richard Marquis, FHWA Division Administrator-Indiana Division, (317) 226-7483. Office hours for the FHWA are from 8:00 a.m. to 4:30 p.m., e.t., Monday through Friday, except Federal holidays.

SUPPLEMENTARY INFORMATION:

Electronic Access and Filing

You may retrieve a copy of the Notice and Request for Comment, comments submitted to the docket, and a copy of this final notice through the Federal eRulemaking portal at: http://www.regulations.gov. The Web site is available 24 hours each day, every day of the year. Electronic submission and retrieval help and guidelines are available under the help section of the Web site.

An electronic copy of this document may also be downloaded from Office of the Federal Register's home page at: http://www.archives.gov/federal_register and the Government Printing Office's Web page at: http://www.gpoaccess.gov.

Background

The INDOT submitted a request to the FHWA for approval of the temporary closure of a segment of I-65, from the I-70/I-65 south split interchange to the I-70/I-65 north split interchange, for a period of 93 days, from the period beginning Wednesday, August 21, through Thursday, November 21. This closure will be undertaken in support of the reconstruction of the Virginia Avenue Bridge, which consists of replacing the northbound and southbound bridge girders and lowering the pavement section from south of Morris Street to north of Fletcher Avenue.

The FHWA is responsible for enforcing the Federal regulations applicable to the National Network of highways that can safely and efficiently accommodate the large vehicles authorized by provisions of the Surface Transportation Assistance Act of 1982, as amended, designated in accordance with 23 CFR Part 658 and listed in Appendix A. In accordance with 23 CFR 658.11, the FHWA may approve deletions or restrictions of the Interstate system or other National Network route based upon specified justification criteria in section 658.11(d)(2). Requests for deletions are published in the Federal Register for notice and comment.

Notice and Request for Comment

The FHWA published a Notice and Request for Comment on July 1, seeking comments from the general public on this request submitted by the INDOT for a deletion in accordance with 23 CFR 658.11(d). The comment period closed on July 31. No comments were received.

The FHWA sought comments on this request for temporary deletion from the National Network in accordance with 23 CFR 658.11(d). Specifically, the request is for approval of the temporary closure of I-65 (from I-70/I-65 south split interchange to I-70/I-65 north split interchange) from the period beginning Wednesday August 21, through Thursday, August 21. This closure will be undertaken to accommodate the reconstruction on the Virginia Avenue Bridge, which consists of replacing the northbound and southbound bridge girders and lowering the pavement section from south of Morris Street to north of Fletcher Avenue. Along its length, I-65 through Indianapolis, Indiana, passes under several bridges, many with limited vertical clearance. The bridges at Virginia Avenue, Fletcher Avenue, Calvary Street, and Morris Street have vertical clearances ranging from 13′ 11″, to 14′ 6″. This project will increase vertical clearances to a minimum 14′ 9″ at each of these locations. For the duration of the requested temporary closure, eastbound and westbound I-70 traffic will be detoured to I-465, around the south side of Indianapolis. Northbound and southbound I-65 traffic will be detoured to I-465. The INDOT states that the temporary closure of this segment of I-65 to general traffic should have negligible impact to interstate commerce. Commercial motor vehicles of the dimensions and configurations described in 23 CFR 658.13 and 658.15 serving the impacted area may use the alternate routes listed above. Vehicles servicing the businesses bordering the impacted area will still be able to do so by also using the alternative routes noted above to circulate around the restricted area. In addition, vehicles not serving businesses in the restricted area but, currently using I-65 and the local street system to reach their ultimate destinations, will be able to use I-465 to access the alternative routes. A map depicting the alternative routes is available electronically at the docket established for this notice at http://www.regulations.gov. The INDOT has reviewed these alternative routes and determined the routes to generally be capable of safely accommodating the diverted traffic during the period of temporary closure. The INDOT will increase the Hoosier Helper workforce (freeway service patrols) along I-465 to address incident response and minimize any incident impacts. The INDOT will issue a press release to inform the community of the closure and will post the closure in Road Restriction System. The INDOT traveler information Web site Traffic Wise will be utilized, as well as the 511 phone system. The INDOT will issue a formal press release upon notification that the request for closure has been approved. The INDOT has reached out to Federal, State, and local agencies to ensure a collaborative and coordinated effort to address the logistical challenges of reconstructing this section of I-65. The INDOT has notified the Indiana Motor Trucking Association of this plan to temporarily close I-65, and has agreed to work with them to provide information targeted at the trucking industry. This request to close I-65 to general traffic on or around August 21, 2013, was prepared for the INDOT in accordance with the Indianapolis Metropolitan Planning Organization's Transportation Plan. The INDOT's proposal has been approved by the city of Indianapolis Department of Public Works and INDOT will coordinate the closure with the Indianapolis Metropolitan Police Department.

The FHWA did not receive any comments in response to the Notice and Request for Comment. After full consideration of the INDOT request discussed in this final notice and determining that the request meets the requirements of 23 CFR 658.11(d), FHWA approves the deletion as proposed.

Authority: 23 U.S.C. 127, 315 and 49 U.S.C. 31111, 31112, and 31114; 23 CFR part 658.

Issued on: August 14, 2013.
Victor M. Mendez,
Administrator.

[FR Doc. 2013-20500 Filed 8-21-13; 8:45 am]

BILLING CODE 4910-22-P